DEPARTMENT OF STATE

[Public Notice: 12382]

Office of the Chief of Protocol; Gifts to Federal Employees From Foreign Government Sources Reported To Employing Agencies in Calendar Year 2022; Correction

ACTION: Notice; Correction.

SUMMARY: The Department of State published a document of overvalue gifts reported to employing agencies in calendar year 2022 in the Federal Register of February 15, 2024. The document contained incorrect values and disposition of respective gifts for 50 previously reported items. This notice corrects the previously reported information for those items.

FOR FURTHER INFORMATION CONTACT: Ms. Jennine Jones, Protocol Gift Officer, Office of the Chief of Protocol, U.S. Department of State, 202-647-1333, SCPR-Gifts-DL@state.gov.

SUPPLEMENTARY INFORMATION: All information reported to the Office of the Chief of Protocol, including gift appraisal and donor information, is the responsibility of the employing agency, in accordance with applicable law and GSA regulations.

The Office of the Chief of Protocol, Department of State, submits the following comprehensive listing of the statements which, as required by law, federal employees filed with their employing agencies during calendar year 2022 concerning gifts received from foreign government sources. The compilation includes reports of both tangible gifts and gifts of travel or travel expenses of more than minimal value, as defined in 5 U.S.C. 7432 and GSA regulations. For calendar year 2022 (January 1, 2022 through December 31, 2022), minimal value is $415.00.

Pursuant to Title 22 of the Code of Federal Regulations Section 3.4, the report includes all gifts given on a single occasion when the aggregate value of those gifts exceeds minimal value. Agencies not listed in the previously published report either did not receive relevant gifts during the calendar year, did not transmit a listing to the Secretary of State of all statements filed during the preceding year by the employees of that agency pursuant to 5 U.S.C. 7432(f)(1), or did not respond to the State Department's Office of the Chief of Protocol's request for data. The U.S. Senate maintains an internal minimal value of $100; therefore, all gifts over the $100 limit are furnished in the U.S. Senate report.

Publication of this listing in the Federal Register is required by section 7342(f) of Title 5, United States Code, as added by section 515(a)(1) of the Foreign Relations Authorization Act, Fiscal Year 1978 (Pub. L. 95-105, August 17, 1977, 91 Stat. 865).

Correction

In the Federal Register of February 15, 2024, in FR Doc. 2024-03129, on page 11898-11902, in the Report of Tangible Gifts Furnished by the White House—Executive Office of the President, correct the following:

Agency: The White House—Executive Office of the President
[Report of tangible gifts furnished by the White House—Executive Office of the President]
Name and title of person accepting the gift on behalf of the U.S. Government | Gift, date of acceptance on behalf of the U.S. Government, estimated value, and current disposition or location | Identity of foreign donor and government | Circumstances justifying acceptance
The Honorable Joseph R. Biden Jr., President of the United States | Painting titled “At Parika Stelling (Guyana).” Rec'd—3/2/2022 Est. Value—$650.00 Disposition—Transferred to NARA. | His Excellency Mohamed Irfaan Ali, President of the Co-operative Republic of Guyana | Non-acceptance would cause embarrassment to donor and U.S. Government.
The Honorable Joseph R. Biden Jr., President of the United States | Basket made of Werregue Fiber, Handwoven Hammock Rec'd—3/24/2022 Est. Value—$600.00 Disposition—Transferred to NARA. | His Excellency Iván Duque, President of the Republic of Colombia | Non-acceptance would cause embarrassment to donor and U.S. Government.
The Honorable Joseph R. Biden Jr., President of the United States | “Nekhbet Collar” Reproduction Rec'd—4/29/2022 Est. Value—$1,530.00 Disposition—Transferred to NARA. | His Excellency Abdel Fattah Al-Sisi, President of the Arab Republic of Egypt | Non-acceptance would cause embarrassment to donor and U.S. Government.
The Honorable Joseph R. Biden Jr., President of the United States | Gold-plated Basket Rec'd—5/13/2022 Est. Value—$490.00 Disposition—Transferred to NARA. | His Majesty Sultan Haji Hassanal Bolkiah Mu'izzaddin Waddaulah Ibni Al-Marhum Sultan Haji Omar 'Ali Saifuddien Sa'adul Khairi Waddien, Sultan and Yang Di-Pertuan of Brunei Darussalam | Non-acceptance would cause embarrassment to donor and U.S. Government.
The Honorable Joseph R. Biden Jr., President of the United States | Sterling Silver Plate with Wood Stand Rec'd—5/13/2022 Est. Value—$420.00 Disposition—Transferred to NARA. | His Excellency Hun Sen, Prime Minister of the Kingdom of Cambodia | Non-acceptance would cause embarrassment to donor and U.S. Government.
The Honorable Joseph R. Biden Jr., President of the United States | Navy Blue Silk Rec'd—5/13/2022 Est. Value—$420.00 Disposition—Transferred to NARA. | His Excellency Pham Minh Chinh, Prime Minister of the Socialist Republic of Vietnam | Non-acceptance would cause embarrassment to donor and U.S. Government.
The Honorable Joseph R. Biden Jr., President of the United States | Footed Bowl Stamped “PAMPALONI 825” with Stand Rec'd—5/16/2022 Est. Value—$9,585.00 Disposition—Transferred to NARA. | Ms. Mareva Grabowski-Mitsotakis, Spouse of the Prime Minister of the Hellenic Republic | Non-acceptance would cause embarrassment to donor and U.S. Government.
The Honorable Joseph R. Biden Jr., President of the United States | Iittala Vase Rec'd—5/19/2022 Est. Value—$425.00 Disposition—Transferred to NARA. | His Excellency Sauli Niinisto, President of the Republic of Finland | Non-acceptance would cause embarrassment to donor and U.S. Government.
The Honorable Joseph R. Biden Jr., President of the United States | “QATAR 2022/22 Joe Biden” Sports Jersey with “FIFA World Cup Qatar 2022” Identification Card Rec'd—5/26/2022 Est. Value—$430.00 Disposition—Transferred to NARA. | His Royal Highness Sheikh Tamim bin Hamad Al Thani, Emir of the State of Qatar | Non-acceptance would cause embarrassment to donor and U.S. Government.
The Honorable Joseph R. Biden Jr., President of the United States | Paper Scissor-cut Artwork Rec'd—5/26/2022 Est. Value—$450.00 Disposition—Transferred to NARA. | His Excellency Narendra Modi, Prime Minister of the Republic of India | Non-acceptance would cause embarrassment to donor and U.S. Government.
The Honorable Joseph R. Biden Jr., President of the United States | Painting Titled “Evening in Aranguez” Rec'd—6/8/2022 Est. Value—$1,300.00 Disposition—Transferred to NARA. | The Honorable Keith Rowley, Prime Minister of the Republic of Trinidad and Tobago | Non-acceptance would cause embarrassment to donor and U.S. Government.
The Honorable Joseph R. Biden Jr., President of the United States | Green Stone Sculpture Rec'd—6/9/2022 Est. Value—$450.00 Disposition—Transferred to NARA. | The Right Honorable Justin Trudeau, PC, MP, Prime Minister of Canada | Non-acceptance would cause embarrassment to donor and U.S. Government.
The Honorable Joseph R. Biden Jr., President of the United States | Pottery Marked “Oscar Soteno E. Metepec. Mex.22” Rec'd—6/10/2022 Est. Value—$700.00 Disposition—Transferred to NARA. | His Excellency Marcelo Ebrard Casaubon, Foreign Secretary of Mexico | Non-acceptance would cause embarrassment to donor and U.S. Government.
The Honorable Joseph R. Biden Jr., President of the United States | Framed Artwork Rec'd—6/21/2022 Est. Value—$2,180.00 Disposition—Transferred to NARA. | His Excellency Pham Minh Chính, Prime Minister of the Socialist Republic of Vietnam | Non-acceptance would cause embarrassment to donor and U.S. Government.
The Honorable Joseph R. Biden Jr., President of the United States | “Seoan” Reading Table Rec'd—6/23/2022 Est. Value—$3,200.00 Disposition—Transferred to NARA. | His Excellency Yoon Suk Yeol, President of the Republic of Korea | Non-acceptance would cause embarrassment to donor and U.S. Government.
The Honorable Joseph R. Biden Jr., President of the United States | Building Model by Royal Selangor Rec'd—6/23/2022 Est. Value—$8,700.00 Disposition—Transferred to NARA. | His Excellency Dato' Sri Ismail Sabribin Yaakob, Prime Minister of Malaysia | Non-acceptance would cause embarrassment to donor and U.S. Government.
The Honorable Joseph R. Biden Jr., President of the United States | Painting of Virgin Mary with Child Rec'd—6/23/2022 Est. Value—$560.00 Disposition—Transferred to NARA. | His Excellency Pedro Castillo, President of the Republic of Peru and Mrs. Lilia Paredes | Non-acceptance would cause embarrassment to donor and U.S. Government.
The Honorable Joseph R. Biden Jr., President of the United States | Watercolor Painting and Cufflinks Rec'd—6/23/2022 Est. Value—$450.00 Disposition—Transferred to NARA. | His Excellency Lee Hsien Loong, Prime Minister of the Republic of Singapore | Non-acceptance would cause embarrassment to donor and U.S. Government.
The Honorable Joseph R. Biden Jr., President of the United States | “Mere” Māori Battle Axe, Thomas Hansen of Tauranga Moana Area Footed Bowl Rec'd—6/24/2022 Est. Value—$2,870.00 Disposition—Transferred to NARA. | The Right Honorable Jacinda Ardern, Prime Minister and Minister of National Security and Intelligence of New Zealand | Non-acceptance would cause embarrassment to donor and U.S. Government.
The Honorable Joseph R. Biden Jr., President of the United States | Set of 6 Crystal Tumblers, Commemorative Coins Rec'd—7/8/2022 Est. Value—$440.00 Disposition—Transferred to NARA. | His Majesty Felipe VI, King of Spain | Non-acceptance would cause embarrassment to donor and U.S. Government.
The Honorable Joseph R. Biden Jr., President of the United States | 2 Scene Shadowbox, “State of Palestine” Photobook Rec'd—7/15/2022 Est. Value—$2,740.00 Disposition—Transferred to NARA. | His Excellency Mahmoud Abbas, President of the Palestinian Authority | Non-acceptance would cause embarrassment to donor and U.S. Government.
The Honorable Joseph R. Biden Jr., President of the United States | Olive Wood Nativity Scene Rec'd—7/15/2022 Est. Value—$9,760.00 Disposition—Transferred to NARA. | Mr. Hanna Hanania, Mayor of Bethlehem, Palestinian Authority | Non-acceptance would cause embarrassment to donor and U.S. Government.
The Honorable Joseph R. Biden Jr., President of the United States | 2 Volume Book Set, 3 “AlUla” Books by Assouline, Wooden Box with Olive Oil and Coffee Rec'd—7/15/2022 Est. Value—$31,655.00 Disposition—Book Set, Books and Wooden Box Transferred to NARA. Perishable items disposed of pursuant to USSS policies. | His Royal Highness, Salman bin Abdulaziz Al Saud, Custodian of the Two Holy Mosques King of the Kingdom of Saudi Arabia | Non-acceptance would cause embarrassment to donor and U.S. Government.
The Honorable Joseph R. Biden Jr., President of the United States | Cotton Washcloths, Two Glass Serving Trays, 12 Rogaska of Slovenia Crystal Containers, Clear Glass Jar, Rogaska of Slovenia Tray and Serving Tray, Incense Burner, 7 Rogaska Bowls Rec'd—7/16/2022 Est. Value—$1,950.00 Disposition—Transferred to NARA. | His Royal Highness Muhammad bin Salman bin Abdulaziz Al Saud, Crown Prince, Deputy Prime Minister, and Minister of Defense of the Kingdom of Saudi Arabia | Non-acceptance would cause embarrassment to donor and U.S. Government.
The Honorable Joseph R. Biden Jr., President of the United States | Wool Ground Mat, Kuwaiti Drinking and Clothing Set, and Medallion Rec'd—7/16/2022 Est. Value—19,850.00 Disposition—Transferred to NARA. | His Highness Sheikh Mishaal Al-Ahmed Al-Jaber Al-Sabah, Crown Prince of the State of Kuwait | Non-acceptance would cause embarrassment to donor and U.S. Government.
The Honorable Joseph R. Biden Jr., President of the United States | Wood Bowl Rec'd—7/28/2022 Est. Value—$790.00 Disposition—Transferred to NARA. | His Majesty King Abdullah II ibn Al Hussein, King of the Hashemite Kingdom of Jordan | Non-acceptance would cause embarrassment to donor and U.S. Government.
The Honorable Joseph R. Biden Jr., President of the United States | Yellow Gold Brooch, Guyana Flag Lapel Pin Rec'd—8/8/2022 Est. Value—$736.00 Disposition—Transferred to NARA. | His Excellency Mohamed Irfaan Ali, President of the Co-operative Republic of Guyana | Non-acceptance would cause embarrassment to donor and U.S. Government.
The Honorable Joseph R. Biden Jr., President of the United States | 2 Coffee Table Books, Drink Set, 2 Books by Nelson Mandela, Wood Box Rec'd—9/16/2022 Est. Value—$997.00 Disposition—Transferred to NARA. | His Excellency Matamela Cyril Ramaphosa, President of the Republic of South Africa | Non-acceptance would cause embarrassment to donor and U.S. Government.
The Honorable Joseph R. Biden Jr., President of the United States | Pair of South Sea Cufflinks Rec'd—9/21/2022 Est. Value—$3,700.00 Disposition—Transferred to NARA. | His Excellency Ferdinand R. Marcos, Jr., President of the Republic of Philippines | Non-acceptance would cause embarrassment to donor and U.S. Government.
The Honorable Joseph R. Biden Jr., President of the United States | 18k Gold Pin Rec'd—10/31/2022 Est. Value—$670.00 Disposition—Transferred to NARA. | The Honorable James Marape, MP, Prime Minister of the Republic of Papua New Guinea | Non-acceptance would cause embarrassment to donor and U.S. Government.
The Honorable Joseph R. Biden Jr., President of the United States | Metal Ankh Rec'd—11/10/2022 Est. Value—$2,430.00 Disposition—Transferred to NARA. | His Excellency Abdel Fattah Al-Sisi, President of the Arab Republic of Egypt | Non-acceptance would cause embarrassment to donor and U.S. Government.
The Honorable Joseph R. Biden Jr., President of the United States | ASEAN 2022 Watch, Briefcase Set with Notebook and Pen Rec'd—11/11/2022 Est. Value—$1,790.00 Disposition—Transferred to NARA. | His Excellency Hun Sen, Prime Minister of the Kingdom of Cambodia | Non-acceptance would cause embarrassment to donor and U.S. Government.
The Honorable Joseph R. Biden Jr., President of the United States | Blue Batik, G20 Notebook Cover, Leather Briefcase with iPad, Silver Horn, Pin Rec'd—11/12/2022 Est. Value—$14,244.00 Disposition—Transferred to NARA. | G20 Host Committee, Government of the Republic of Indonesia | Non-acceptance would cause embarrassment to donor and U.S. Government.
The Honorable Joseph R. Biden Jr., President of the United States | Blue Shirt, Orange Multi-Colored Shirt by Kwong Tung, Blue Multi-Colored Shirt by Kwong Tung Rec'd—11/12/2022 Est. Value—$710.00 Disposition—Transferred to NARA. | ASEAN East Asia Summit 2022 Host Committee, Government of the Kingdom of Cambodia | Non-acceptance would cause embarrassment to donor and U.S. Government.
The Honorable Joseph R. Biden Jr., President of the United States | Traditional Dagger with Carvings Rec'd—11/14/2022 Est. Value—$3,200.00 Disposition—Transferred to NARA. | His Excellency Joko Widodo, President of the Republic of Indonesia | Non-acceptance would cause embarrassment to donor and U.S. Government.
The Honorable Joseph R. Biden Jr., President of the United States | Painting Titled “Orange Patterns” Rec'd—11/21/2022 Est. Value—$2,400.00 Disposition—Transferred to NARA. | His Excellency Volodymyr Zelenskyy, President of Ukraine | Non-acceptance would cause embarrassment to donor and U.S. Government.
The Honorable Joseph R. Biden Jr., President of the United States | Christofle Silver Bowl, Grande Nautic Ski GMT Watch, Book “Revolution”, Bottle of Armagnac 1942 Reserve Joseph Rec'd—11/30/2022 Est. Value—$3,169.00 Disposition—Watch Purchased, Bowl and Book transferred to NARA, Perishable items retained for Official Use and/or disposed of pursuant to USSS policies | His Excellency Emmanuel Macron, President of the French Republic and Mrs. Brigitte Macron | Non-acceptance would cause embarrassment to donor and U.S. Government.
The Honorable Joseph R. Biden Jr., President of the United States | Panama Style Hat by Signes of Ecuador, Alpaca Fur Scarf Rec'd—Unknown (2022) Est. Value—$792.00 Disposition—Transferred to NARA. | His Excellency Guillermo Lasso, President of the Republic of Ecuador | Non-acceptance would cause embarrassment to donor and U.S. Government.
The Honorable Joseph R. Biden Jr., President of the United States and Dr. Jill Biden, First Lady of the United States | Painting Depicting Cityscape. Rec'd—1/12/2022 Est. Value—$900.00 Disposition—Transferred to NARA. | His Excellency Khazar Ibrahim, Ambassador of Azerbaijan to the United States | Non-acceptance would cause embarrassment to donor and U.S. Government.
The Honorable Joseph R. Biden Jr., President of the United States, Dr. Jill Biden, First Lady of the United States of America | 2 Rose Quartz Hummingbirds Artwork Rec'd—6/23/2022 Est. Value—$890.00 Disposition—Transferred to NARA. | His Excellency Jair Bolsonaro, President of the Federative Republic of Brazil | Non-acceptance would cause embarrassment to donor and U.S. Government.
Dr. Jill Biden | Table Linens with 4 Napkins, Gold Brooch Rec'd—5/9/2022 Est. Value—$530.00 Disposition—Transferred to NARA. | Mrs. Olena Zelenska, First Lady of Ukraine | Non-acceptance would cause embarrassment to donor and U.S. Government.
Dr. Jill Biden | Taytta of Ecuador Hat, Painting of Dr. Biden, Tote Bag, Print of Dr. Biden Rec'd—6/23/2022 Est. Value—$1,847.00 Disposition—Transferred to NARA. | Her Excellency Ivonne A-Baki, Ambassador of the Republic of Ecuador to the United States | Non-acceptance would cause embarrassment to donor and U.S. Government.
Dr. Jill Biden | Black Shawl by Torath Shop, Long Sleeve Jacket by Torath Shop Rec'd—8/22/2022 Est. Value—$594.00 Disposition—Transferred to NARA. | His Excellency Mahmoud Abbas, President of the Palestinian Authority | Non-acceptance would cause embarrassment to donor and U.S. Government.
Dr. Jill Biden | Pair of South Sea Pearl Earrings Rec'd—9/21/2022 Est. Value—$3,180.00 Disposition—Transferred to NARA. | Mrs. Louise Araneta-Marcos, First Lady of the Republic of the Philippines | Non-acceptance would cause embarrassment to donor and U.S. Government.
Dr. Jill Biden | Heden Clutch with Metal Chain Rec'd—9/21/2022 Est. Value—$780.00 Disposition—Transferred to NARA. | Her Majesty Letizia, Queen of Spain | Non-acceptance would cause embarrassment to donor and U.S. Government.
Dr. Jill Biden | White Marble Dish, Diamond and Gold Bracelet Rec'd—10/20/2022 Est. Value—$555.00 Disposition-Transferred to NARA. | Mrs. Mareva Mitsotakis, Spouse of the Prime Minister of the Hellenic Republic | Non-acceptance would cause embarrassment to donor and U.S. Government.
Dr. Jill Biden | Gold Pin with Pearl, Scarf Set Rec'd—11/12/2022 Est. Value—$605.00 Disposition—Transferred to NARA (scarf set), Retained for personal use (pin). | G20 Host Committee, Government of the Republic of Indonesia | Non-acceptance would cause embarrassment to donor and U.S. Government.
The Honorable Ronald Klain, Assistant to the President & Chief of Staff | Herend Porcelain Tea Set Rec'd—8/17/2022 Est. Value—$700.00 Disposition—Pending transfer to GSA. | His Excellency Peter Szijjarto, Minister of Foreign Affairs and Trade to the Republic of Hungary | Non-acceptance would cause embarrassment to donor and U.S. Government.
The Honorable Jacob Sullivan, Assistant to the President for National Security Affairs | Traditional Rug, Wood Plaque, Silver Filigree Box, Pashmina Wool Shawl, Leather Briefcase Rec'd—8/12/2022 Est. Value—$1,625.00 Disposition—Pending transfer to GSA. | General Qamar Javed Bajwa, Chief of Army Staff of the Islamic Republic of Pakistan | Non-acceptance would cause embarrassment to donor and U.S. Government.
The Honorable Jacob Sullivan, Assistant to the President for National Security Affairs | Painting Titled “The Light Will Win”, and Traditional Ukrainian Shirt Rec'd—11/4/2022 Est. Value—$926.00 Disposition-Pending transfer to GSA. | His Excellency Volodymyr Zelenskyy, President of Ukraine | Non-acceptance would cause embarrassment to donor and U.S. Government.

Ethan Michael Rosenzweig,
Acting Chief of Protocol of the United States, Office of the Chief of Protocol, Department of State.

[FR Doc. 2024-09344 Filed 4-30-24; 8:45 am]

BILLING CODE 4710-20-P